DEPARTMENT OF ENERGY

Federal Energy Regulatory Commission

[Docket No. RP11-1566-000]

Tennessee Gas Pipeline Company; Notice Postponing Technical Conference

February 1, 2011.

In a prior notice, the Commission scheduled a technical conference to discuss the non-rate issues in Tennessee Gas Pipeline Company's rate case filing for February 2 and February 3, 2011 in the above-captioned docket. Due to forecasted inclement weather and hazardous travel conditions, both days of the conference are postponed until further notice.

Kimberly D. Bose,
Secretary.

[FR Doc. 2011-2812 Filed 2-8-11; 8:45 am]

BILLING CODE 6717-01-P